DEPARTMENT OF HEALTH AND HUMAN SERVICES

Centers for Disease Control and Prevention

[30-DAY-29-01]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project: National Childhood Blood Lead Surveillance System—Renewal—(OMB No. 0920-0337), National Center for Environmental Health (NCEH), Centers for Disease Control and Prevention (CDC). In 1992, the Centers for Disease Control and Prevention began the National Childhood Lead Surveillance Program at the National Center for Environmental Health (NCEH). The goals of the childhood lead surveillance program are to (1) establish childhood lead surveillance systems at the state and national levels; (2) use surveillance data to estimate the extent of elevated blood-lead levels among children; (3) assess the follow-up of children with elevated blood-lead levels; (4) examine potential sources of lead exposure; and (5) help allocate resources for lead poisoning prevention activities. State surveillance systems are based on reports of blood-lead tests from laboratories. Ideally laboratories report results of all lead tests, not just elevated values, to the state health department, but each state determines the reporting level for blood lead tests. In addition to blood lead test results, state child-specific surveillance databases contain follow-up data on children with elevated blood-lead levels including data on medical treatment, environmental investigations, and potential sources of lead exposure. Surveillance data for the national database are extracted from the state child-specific databases and transferred to CDC.

OMB approval for this package will expire on March 31, 2001. This request is for a three-year renewal with a change in the burden hours. The annual burden hours are estimated to be 600.

Type of respondents | No. respondents | Frequency of responses | Avg. burden/response (in hrs)
State Health Departments:
(a) annual report | 28 | 1 | 10.0
(b) quarterly report | 40 | 4 | 2.0

Dated: April 16, 2001.
Nancy E. Cheal,
Acting Associate Director for Policy Planning, and Evaluation Centers for Disease Control and Prevention (CDC).

[FR Doc. 01-10064 Filed 4-23-01; 8:45 am]

BILLING CODE 4163-18-P